ENVIRONMENTAL PROTECTION AGENCY

[FRL-7557-8]

Science Advisory Board Staff Office; Ecological Processes and Effects Committee; Notification of Public Advisory Committee Meeting; Consultation on EPA's Strategy on Suspended and Bedded Sediments; Discussion of EPEC Activities in Fiscal Year 2004

AGENCY: Environmental Protection Agency (EPA).

ACTION: Notice.

SUMMARY: The Environmental Protection Agency (EPA), Science Advisory Board Staff Office (SAB), Ecological Processes and Effects Committee (EPEC) will hold a face-to-face meeting to conduct a consultation on EPA's strategy for developing water-quality criteria for suspended and bedded sediments. In addition, EPEC members will discuss EPEC activities for fiscal year 2004.

DATES: The meeting will begin on Thursday, October 2, 3003, at 8:30 am (Eastern Time) and adjourn no later than 5:30 pm that day.

ADDRESSES: The meeting will be held in Washington, DC. Location of the meeting will be announced on the SAB Web site, http://www.epa/sab. For further information concerning the meeting, please contact Dr. L. Joseph Bachman (see contact information below).

FOR FURTHER INFORMATION CONTACT: Any member of the public wishing further information concerning this meeting must contact Dr. L. Joseph Bachman, Designated Federal Officer, USEPA Science Advisory Board Staff Office, (1400A), 1200 Pennsylvania Avenue, NW, Washington, DC 20460; telephone/voice mail at (202) 564-3968; fax at (202) 501-0582; or via e-mail at bachman.joseph@epa.gov.

SUPPLEMENTARY INFORMATION: Action: Pursuant to the Federal Advisory Committee Act, Public Law 92-463, notice is hereby given that the Ecological Processes and Effects Committee (EPEC) of the U.S. EPA Science Advisory Board (SAB) will meet on Thursday October 2, to hold a consultation on EPA's strategy for developing water-quality criteria for suspended and bedded sediments. In addition, EPEC members will discuss possible EPEC activities for fiscal year 2004. The meeting is open to the public; however, seating is limited and available on a first come basis.

Availability of the Meeting Materials: Any meeting materials will be made available from the EPA's Office of Water (OW) and the Office of Research Development (ORD). The proposed agenda for the meeting will be posted approximately 10 calendar days prior to the meeting at the SAB's Web site at http://www.epa.gov/sab/panels/epecsabspanel.htm. Links to available meeting materials will also be posted at this location. For questions and information concerning the agenda, please contact Dr. L. Joseph Bachman (see contact information above).

Background for Consultation on Suspended and Bedded Sediments

The Ecological Processes and Effects Committee (EPEC) of the EPA Science Advisory Board was asked by the Health and Ecological Criteria Division of the Office of Science and Technology, Office of Water, to provide a consultation on potential approaches on a strategy for developing water-quality criteria for Suspended and Bedded Sediments (SABS). A request for nominations for consultant panel members to provide additional expertise to EPEC appeared in the Federal Register on July 30, 2003 (68 FR 44758-44760). That request contained a more detailed description of the regulatory context of the SABS issue and the scientific approaches being considered in the strategy development.

In 1976, EPA issued a water quality criteria recommendation under the Clean Water Act for solids and turbidity. For a variety of reasons, the States seldom use this criterion. It is questionable whether this criterion would achieve intended protection for all different designated uses for water bodies. SABS occurs naturally in streams in a wide range of concentrations—levels that might be perfectly normal in one water body could be indicative of impairment in another.

Although most States currently have water quality criteria that can be applied to manage SABS, these are typically based on turbidity, suspended solids or settleable solids, and their effectiveness for dealing with all water quality impairments caused by SABS, especially as benchmarks for aquatic life protection based on natural levels, is questionable. In recent consultations with State representatives, the need for new water quality criteria for SABS or methodologies for deriving them on a site-specific basis was identified as one of the highest priorities for the water quality criteria program. As a result, the EPA Office of Water has concluded that to better manage SABS in all types of water bodies and for all designated uses, State and Tribal water quality managers need new and updated water quality criteria and information for SABS.

Charge: While many questions and much research remain, EPA seeks the opportunity for a consultation with the Science Advisory Board to gain advice and recommendations on the best potential approaches to developing water quality criteria for suspended and bedded sediments as will be described in the draft discussion paper entitled Developing Water Quality Criteria for Suspended and Bedded Sediments (SABS)—Potential Approaches. The Office of Water is also seeking recommendations on additional criteria development approaches for different types of water body uses, other than aquatic life, and is also seeking advice on any potential criteria derivation methodology not included in the discussion paper.

More Specific Consultation Questions:

(1) Is it a legitimate premise that SABS in natural amounts (background levels) are beneficial to ecosystems and therefore water quality criteria should attempt to simulate background levels or natural regimes?

(2) Can SABS criteria be stratified by water body type or by some other scheme? If by water body-type, by what level of classification—lotic and lacustrine? Rivers and streams, wetlands, lakes/reservoirs and estuaries/coastal areas? Other? If some other classification scheme is necessary, what type and how much resolution must it have?

(3) Should a water quality criterion for SABS include components that address turbidity, suspended solids, and deposited solids.

(4) Can biological assessments and biocriteria play a role in SABS criteria? If so, what role?

(5) Should EPA reconsider the inclusion of organic particulate material in its definition of suspended and bedded sediments?

(6) Which of the EPA proposed criteria methods do you believe have the greatest potential? Why? Which ones should EPA pursue further?

(7) Do any of the recent efforts of the States or other Countries hold promise for a national criteria method?

If SABS criteria are established to protect aquatic life in water bodies, is it reasonable to assume that these criteria will be stringent enough to also protect other uses of the water body (recreation, industrial water intake, drinking water source, etc.)

Providing Oral or Written Comments at SAB Meetings: It is the policy of the EPA Science Advisory Board Staff Office (SAB) to accept written public comments of any length, and to accommodate oral public comments whenever possible. The EPA SAB expects that public statements presented at its meetings will not be repetitive of previously submitted oral or written statements. Oral Comments: In general, each individual or group requesting an oral presentation at a face-to-face meeting will be limited to a total time of ten minutes (unless otherwise indicated). Interested parties should contact the DFO at least one week prior to the meeting in order to be placed on the public speaker list for the meeting. Speakers may attend the meeting and provide comment up to the meeting time. Speakers should bring at least 35 copies of their comments and presentation slides for distribution to the reviewers and public at the meeting. Written Comments: Although the SAB accepts written comments until the date of the meeting (unless otherwise stated), written comments should be received in the SAB Staff Office at least one week prior to the meeting date so that the comments may be made available to the review panel for their consideration. Comments should be supplied to Dr. L. Joseph Bachman at the contact information provided in this notice in the following formats: One hard copy with original signature, and one electronic copy via e-mail (acceptable file format: Adobe Acrobat, WordPerfect, Word, or Rich Text files (in IBM-PC/Windows 95/98/XP/2000 format). Those providing written comments and who attend the meeting are also asked to bring 35 copies of their comments for public distribution.

Meeting Access—Individuals requiring any additional special accommodation at this meeting should contact the DFO indicated above for this FR notice, at least five business days prior to the meeting so that appropriate arrangements can be made.

Dated: September 8, 2003.
Vanessa T. Vu,
Director, EPA Science Advisory Board Staff Office.

[FR Doc. 03-23272 Filed 9-11-03; 8:45 am]

BILLING CODE 6560-50-P